DEPARTMENT OF ENERGY

Federal Energy Regulatory Commission

[Project No. 2042-013, Washington, Idaho]

Public Utility District No. 1 of Pend Oreille County; Notice of Intention To Hold Puclic Meetings for Discussion of the Draft Environmental Impact Statement for the Box Canyon Hydroelectric Project

September 25, 2002.

On September 9, 2002, the Commission staff mailed the Box Canyon Project Draft Environmental Impact Statement (DEIS) to the Environmental Protection Agency, resource and land management agencies, and interested organizations and individuals.

The DEIS was noticed in the Federal Register on September 20, 2002 (61 FR 6243), and comments are due November 19, 2002. The DEIS evaluates the environmental consequences of the construction, operation, and maintenance of the Box Canyon Project in Washington and Idaho. About 709 acres within the project boundary are located on lands of the United States, including Kalispel Indian Reservation (493 acres), U.S. Forest Service Colville National forest (182.93 acres), U.S. Department of energy, Bonneville Power Administration (24.14 acres) U.S. Fish and Wildlife Service (2.45 acres), U.S. Army Corps of Engineers (5.29 acres, and U.S. Bureau of Land Management (1.44 acres). The DEIS also evaluates the environmental effects of implementing the applicant's proposals, agency and tribal recommendations, staff's recommendations, and the no-action alternative.

Two public meetings, which will be recorded by an official stenographer, are scheduled:

Date | Time | Location
Monday, October 21, 2002 | 7-10 p.m | Newport High School Cafeteria, 1400 West 5th Street, Newport, WA.
Tuesday, October 22, 2002 | 2-5 p.m | Airport Ramada Inn, Spokane International Airport, Spokane, WA.

At these meetings, resource agency personnel and other interested persons will have the opportunity to provide oral and written comments and recommendations regarding the DEIS for the Commission's public record.

For further information, please contact Timothy Welch, at (202) 502-8760, Timothy.Welch@FERC.gov, Federal Energy Regulatory Commission, Office of Energy Projects, 888 First St. NE., Washington, DC 20426.

Linwood A. Watson, Jr.,
Deputy Secretary.

[FR Doc. 02-24882 Filed 10-1-02; 8:45 am]

BILLING CODE 6717-01-P